NUCLEAR REGULATORY COMMISSION

[Docket No. 52-043; NRC-2014-0149]

Early Site Permit for the PSEG Site

AGENCY: Nuclear Regulatory Commission.

ACTION: Draft environmental impact statement; extension of comment period.

SUMMARY: On August 22, 2014, the U.S. Nuclear Regulatory Commission (NRC) and the U.S. Army Corps of Engineers (USACE) published for public comment a draft environmental impact statement (EIS), NUREG-2168, “Draft Environmental Impact Statement for the Early Site Permit (ESP) for the PSEG Site.” The PSEG Site is located in Salem County, New Jersey. The public comment period was to have ended on November 6, 2014. The NRC has decided to extend the public comment period for 30 days to allow more time for members of the public to develop and submit their comments.

DATES: The comment period for the draft EIS (79 FR 49820; August 22, 2014) has been extended to December 6, 2014.

ADDRESSES: You may submit comments by any of the following methods:

• Federal Rulemaking Web site: Go to http://www.regulations.gov and search for Docket ID NRC-2014-0149. Address questions about NRC dockets to Carol Gallagher; telephone: 301-287-3422; email: Carol.Gallagher@nrc.gov. For technical questions, contact the individual listed in the FOR FURTHER INFORMATION CONTACT section of this document.

• Mail comments to: Cindy Bladey, Office of Administration, Mail Stop: 3WFN-06-A44M, U.S. Nuclear Regulatory Commission, Washington, DC 20555-0001.

For additional direction on obtaining information and submitting comments, see “Obtaining Information and Submitting Comments” in the SUPPLEMENTARY INFORMATION section of this document.

FOR FURTHER INFORMATION CONTACT: Allen Fetter, Office of New Reactors, U.S. Nuclear Regulatory Commission, Washington, DC 20555-0001, telephone: 301-415-8556, email: Allen.Fetter@nrc.gov.

SUPPLEMENTARY INFORMATION:

I. Obtaining Information and Submitting Comments

A. Obtaining Information

Please refer to Docket ID NRC-2014-0149, when contacting the NRC about the availability of information regarding this document. You may obtain publicly-available information related to this action by the following methods:

• Federal Rulemaking Web site: Go to http://www.regulations.gov and search for NRC Docket ID NRC-2014-0149.

• NRC'S Agencywide Documents Access and Management System (ADAMS):

You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft EIS and an accompanying reader's guide are available in ADAMS under Accession No. ML14219A304.

• NRC's PDR: You may examine and purchase copies of public documents at the NRC's PDR, Room O1-F21, One White Flint North, 11555 Rockville Pike, Rockville, Maryland 20852.

• Project Web site: The draft EIS can be accessed online at the PSEG ESP specific Web page at http://www.nrc.gov/reactors/new-reactors/esp/pseg.html.

• Salem Free Public Library: The draft EIS is available for public inspection at 112 West Broadway, Salem, New Jersey, 08079.

B. Submitting Comments

Please include Docket ID NRC-2014-0149 in the subject line of your comment submission, in order to ensure that the NRC is able to make your comment submission available to the public in this docket.

The NRC cautions you not to include identifying or contact information in comment submissions that you do not want to be publicly disclosed in your comment submission. The NRC will post all comment submissions at http://www.regulations.gov as well as enter the comment submissions into ADAMS, and the NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

The application submitted by PSEG Power, LLC, and PSEG Nuclear, LLC (PSEG), for an ESP was submitted by letter dated May 25, 2010 (ADAMS Accession No. ML101480484), pursuant to Part 52 of Title 10 of the Code of Federal Regulations. A notice of receipt and availability of the application, which included the environmental report, was published in the Federal Register on June 18, 2010 (75 FR 34794). A notice of acceptance for docketing of the ESP application was published in the Federal Register on August 13, 2010 (75 FR 49539). A notice of intent to prepare a draft environmental impact statement (EIS) and to conduct the scoping process was published in the Federal Register on October 15, 2010 (75 FR 63521). On August 22, 2014, the NRC and USACE published for public comment the draft EIS in the Federal Register (79 FR 49820). The purpose of this solicitation was to obtain public comments on the draft EIS for NRC staff to consider in preparing the final EIS. The public comment period was to have ended on November 6, 2014. Extensions to the 75-day comment period may be provided at the discretion of the NRC staff if special circumstances are present. The NRC staff has determined that special circumstances exist that support extending this comment period. Those special circumstances include the recent identification of some individuals and organizations with special knowledge and expertise in the area of environmental justice that had not been aware of the original notice and other outreach efforts. In order to gain additional information on any minority or low-income populations that might be disproportionately affected, the NRC has determined that it is prudent, in this instance, to extend the public comment period on this document until December 6, 2014, to allow more time for members of the public to submit their comments.

Dated at Rockville, Maryland, this 30th day of October, 2014.
For the Nuclear Regulatory Commission.
Frank Akstulewicz,
Director, Division of New Reactor Licensing, Office of New Reactors.

[FR Doc. 2014-26301 Filed 11-4-14; 8:45 am]

BILLING CODE 7590-01-P